FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of Agreements at (202)-523-5793 or tradeanalysis@fmc.gov.

Agreement No.: 201395.

Agreement Name: Volkswagen Konzernlogistik GmbH & Co. OHG/Neptune Lines Space Charter Agreement.

Parties: Neptune Pacific Line, Inc.; Volkswagen Konzernlogistik GmbH & Co. OHG.

Filing Party: Bryant Gardner, Winston & Strawn LLP.

Synopsis: The Agreement authorizes the parties to charter space to each other in all U.S. trades.

Proposed Effective Date: 11/14/2022.

Location: https://www2.fmc.gov/FMC.Agreements.Web/Public/AgreementHistory/72502.

Agreement No.: 201396.

Agreement Name: Toko Kaiun Kaisha/Daichi Chuo Kisen Kaisha Space Charter Agreement.

Parties: Daichi Chuo Kisen Kaisha; Toko Kaiun Kaisha, LTD.

Filing Party: Rebecca Fenneman, Jeffrey/Fenneman Law + Strategy, PLLC.

Synopsis: The Agreement authorizes the parties to charter space to each other in the trade between the United States and Japan.

Proposed Effective Date: 11/15/2022.

Location: https://www2.fmc.gov/FMC.Agreements.Web/Public/AgreementHistory/72503.

Dated: November 18, 2022.
JoAnne O'Bryant,
Program Analyst.

[FR Doc. 2022-25563 Filed 11-22-22; 8:45 am]

BILLING CODE 6730-02-P